DEPARTMENT OF LABOR

Employment and Training Administration

[TA-W-54,227]

Glenshaw Glass Co., Glenshaw, Pennsylvania; Notice of Negative Determination Regarding Application for Reconsideration

By application of April 16, 2004, Glass, Molders, Plastics & Allied Workers International Union, Local 134 requested administrative reconsideration of the Department's negative determination regarding eligibility to apply for Trade Adjustment Assistance (TAA), applicable to workers and former workers of the subject firm. The denial notice was signed on March 18, 2004, and published in the Federal Register on May 24, 2004 (69 FR 29575).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The petition for the workers of Glenshaw Glass Company, Glenshaw, Pennsylvania was denied because criterion (1) was not met. Employment at the subject plant did not decline from 2002 to 2003, and January 2004 as compared to January 2003.

The petitioner alleges that employment declined at least 5 percent “at this point” and questions total employment data collected during the original investigation.

In the request for reconsideration, the company official confirmed that there were no employment declines in 2003 and January 2004. The official further stated that employment is even likely to increase further in 2004.

The petitioner further alleges that production at the subject facility was impacted by imports from Canada.

In order for import data to be considered, employment declines must have occurred at the subject facility in the relevant period. As criterion (1) has not been met for the petitioning worker group, imports are irrelevant.

Conclusion

After review of the application and investigative findings, I conclude that there has been no error or misinterpretation of the law or of the facts which would justify reconsideration of the Department of Labor's prior decision. Accordingly, the application is denied.

Signed at Washington, DC, this 4th day of June, 2004.
Elliott S. Kushner,
Certifying Officer, Division of Trade Adjustment Assistance.

[FR Doc. 04-13384 Filed 6-14-04; 8:45 am]

BILLING CODE 4510-30-P